DEPARTMENT OF STATE

[Public Notice 4038]

United States International Telecommunication Advisory Committee; Preparations for International Telecommunications Union Telecommunication Development Sector and Telecommunication Standardization; Notice of Meetings

The Department of State announces meetings of the U.S. International Telecommunication Advisory Committee (ITAC). The purpose of the Committee is to advise the Department on policy, technical and operational issues with respect to international telecommunications standardization bodies such as the International Telecommunication Union (ITU).

The ITAC will meet electronically from July 29 to August 2 to consider two Normal Contributions to ITU-T Study Group 13. The documents are available at the following sites: ftp://ftp.t1.org/T1A1/T1A1.0/2a100530.doc and ftp://ftp.t1.org/T1A1/T1A1.0/2a100540.doc. Comments on the documents must be posted to SGB-13@almsntsa.lmlist.state.gov by July 29, responses will be posted by August 1, and final action will be posted by the Department of State on August 2. People not already members of the “SGB-13” reflector may join by contacting marciegeissinger@msn.com by email.

The ITAC will meet from 10 to noon on July 30 in room 5533 and 10 to noon on August 13 and August 27 in room 1105, at the Department of State. The agenda for these meetings is preparations for the meetings of the ITU Telecommunication Development (ITU-D) Sector Study Groups will be in September, 2002.

Members of the public will be admitted to the extent that seating is available, and may join in the discussions, subject to the instructions of the Chair. Entrance to the Department of State is controlled. People intending to attend the meeting should send their clearance data by fax to (202) 647-7407 or email to worsleydm@state.gov not later than 24 hours before the meeting. Please include the name of the meeting, your name, social security number, date of birth and organizational affiliation. One of the following valid photo identifications will be required for admittance: U.S. driver's license with your picture on it, U.S. passport, or U.S. Government identification. Directions to the meeting location and on which entrance to use may be determined by calling the ITAC Secretariat at 202 647-2592 or email to worsleydm@state.gov.

Dated: July 15, 2002.
Doreen McGirr,
Director, Telecommunication Development, Department of State.

[FR Doc. 02-18607 Filed 7-22-02; 8:45 am]

BILLING CODE 4710-45-P